NUCLEAR REGULATORY COMMISSION

[Docket Nos. 52-12-COL and 52-13-COL; ASLBP No. 09-885-08-COL-BD01]

Atomic Safety and Licensing Board; In the Matter of Nuclear Innovation North America LLC (South Texas Project Units 3 and 4); Evidentiary Hearing to Receive Testimony and Exhibits Regarding the Application

September 28, 2011.

Before Administrative Judges: Michael M. Gibson, Chairman, Gary S. Arnold, Dr. Randall J. Charbeneau.

Notice

(Notice of Hearing and Opportunity to Submit Written Limited Appearance Statements)

On October 31, 2011, the Atomic Safety and Licensing Board will convene an evidentiary hearing to receive testimony and exhibits regarding the application of Nuclear Innovation North America LLC (NINA) for combined licenses for the construction and operation of two new nuclear reactor units on an existing site near Bay City, Texas. In addition, in accordance with 10 CFR 2.315(a), the Board will entertain written limited appearance statements from members of the public in connection with this proceeding. Finally, the Board gives notice that it may hold oral argument on a new contention proposed by Intervenors ¹ related to the Fukushima Dai-ichi accident.

¹ Intervenors are the Sustainable Energy and Economic Development Coalition, the South Texas Association for Responsible Energy, and Public Citizen.

A. Matters to be Considered at Evidentiary Hearing

This evidentiary hearing will consider an environmental contention originally scheduled to be heard in August 2011. The Board deferred—without objection by NINA or Staff—hearing this contention in August 2011 because Intervenors' expert witness was unavailable as a result of a medical emergency. This contention, referred to as DEIS-1-G, relates to accounting for energy efficient building code rules in the assessment of a need for power.

B. Date, Time, and Location of Evidentiary Hearing

The Board will conduct this evidentiary hearing ² beginning at 9:30 a.m., Eastern Daylight Time (EDT) on Monday, October 31, 2011, at the Atomic Safety and Licensing Board Panel Hearing Room, Two White Flint North Building, Third Floor, Room T-3B45, 11545 Rockville Pike, Rockville, Maryland. The hearing will continue day-to-day until concluded.

² NINA, NRC Staff, and Intervenors will be parties to the hearing and will present witnesses and evidentiary material.

Any members of the public who plan to attend the evidentiary hearing are advised that security measures will be employed at the entrance to the facility, including searches of hand-carried items such as briefcases or backpacks.

C. Submitting Written Limited Appearance Statements

As provided in 10 CFR 2.315(a), any person (other than a party or the representative of a party to this proceeding) may submit a written statement setting forth his or her position on matters of concern relating to this proceeding. Although these statements do not constitute testimony or evidence, they nonetheless may help the Board or the parties in their consideration of the issues in this proceeding.

A written limited appearance statement may be submitted at any time and should be sent to the Office of the Secretary using one of the methods prescribed below:

Mail: Office of the Secretary, Rulemakings and Adjudications Staff, U.S. Nuclear Regulatory Commission, Washington, DC 20555-0001.

Fax: (301) 415-1101 (verification (301) 415-1966).

E-mail: hearingdocket@nrc.gov.

In addition, using the same method of service, a copy of the written limited appearance statement should be sent to the Chairman of this Licensing Board as follows:

Mail: Administrative Judge Michael M. Gibson, Atomic Safety and Licensing Board Panel, Mail Stop T-3 F23, U.S. Nuclear Regulatory Commission, Washington, DC 20555-0001.

Fax: (301) 415-5599 (verification (301) 415-7332).

E-mail: Michael.Gibson@nrc.gov and Jonathan.Eser@nrc.gov.

D. Notice of Oral Argument

The Board may hold oral argument on Intervenors' newly proffered Fukushima-related contention immediately after the conclusion of the evidentiary hearing. As with hearing attendance, members of the public are welcome to attend oral argument, subject to facility security protocol.

E. Availability of Documentary Information Regarding the Proceeding

NINA's application and various Staff documents relating to the application are available on the NRC Web site at http://www.nrc.gov/reactors/new-reactors/col/south-texas-project.html.

These and other documents relating to this proceeding are available for public inspection at the Commission's Public Document Room, located at One White Flint North, 11555 Rockville Pike (first floor), Rockville, MD 20852, or electronically from the publicly available records component of NRC's document system (ADAMS). ADAMS is accessible from the NRC Web site at http://www.nrc.gov/reading-rm/adams.html (the Public Electronic Reading Room). Persons who do not have access to ADAMS or who encounter problems in accessing the documents located in ADAMS should contact the NRC Public Document Room reference staff by telephone at (800) 397-4209 or (301) 415-4737 (available between 8 a.m. and 4 p.m., Eastern Time (E.T.), Monday through Friday except federal holidays), or by e-mail to pdr@nrc.gov.

It is so ordered.

September 28, 2011.
For the Atomic Safety and Licensing Board.
Michael M. Gibson,
Administrative Judge.

[FR Doc. 2011-25488 Filed 10-3-11; 8:45 am]

BILLING CODE 7590-01-P